DEPARTMENT OF HEALTH AND HUMAN SERVICES

[Document Identifier: OS-4040-0010]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 2, 2018.

ADDRESSES: Submit your comments to Sherrette.Funn@hhs.gov or by calling (202) 795-7714.

FOR FURTHER INFORMATION CONTACT: When submitting comments or requesting information, please include the document identifier 4040-0010-60D and project title for reference to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Project Abstract Summary.

Type of Collection: Extension.

OMB No. 4040-0010.

Abstract: The ICR is for a reinstatement of a discontinued IC, Project Abstract Summary, re-assignment to OMB Control Number 4040-0010, and a 3-year expiration date. The original IC was assigned the OMB Control Number 0980-0204. The IC expired on 4/30/2015. Grants.gov also requests categorizing this form as a common form, meaning HHS will only request approval for its own use of the form rather than aggregating the burden estimate across all Federal Agencies as was done for previous actions on this OMB control number. Project Abstract Summary is used by applicants to apply for Federal financial assistance. The Project Abstract Summary form allows the applicants to provide a summary of the project and its objectives as part of their grant proposals. This form is evaluated by Federal agencies as part of the overall grant application.

Type of Respondent: The Project Abstract Summary form is used by organizations to apply for Federal financial assistance in the form of grants. These forms are submitted to the Federal grant-making agencies for evaluation and review.

Annualized Burden Hour Table
Forms (if necessary) | Respondents (if necessary) | Number of respondents | Number of responses per respondents | Average burden per response | Total burden hours
Project Abstract Summary | Grant-seeking organizations | 3,467 | 1 | 1 | 3,467
Total |  |  | 1 |  | 3,467

Terry Clark,
Asst. Paperwork Reduction Act Reports Clearance Officer, Office of the Secretary.

[FR Doc. 2018-09135 Filed 4-30-18; 8:45 am]

BILLING CODE 4151-AE-P